DEPARTMENT OF AGRICULTURE

Food and Nutrition Service

Agency Information Collection Activities: Proposed Collection; Comment Request: The Pennsylvania Rural Area Eligibility Pilot Evaluation

AGENCY: Food and Nutrition Service, USDA.

ACTION: Notice.

SUMMARY: In accordance with the Paperwork Reduction Act of 1995, the Food and Nutrition Service is submitting for comment from the general public and other public agencies the proposed information collection burden that would result from the Pennsylvania Rural Area Eligibility Pilot Evaluation.

DATES: Written comments must be received on or before July 11, 2006.

ADDRESSES: Comments are invited on: (a) Whether the proposed collection of information is necessary for the proper performance of the functions of the Food and Nutrition Service (FNS), USDA, including whether the information will have practical utility; (b) the accuracy of FNS? estimate of burden of the proposed collection of information, including the validity of the methodology and assumptions that were used; (c) ways to enhance the quality, utility and clarity of the information to be collected; and (d) ways to minimize the burden of the collection of information on those who are to respond, including through the use of appropriate automated, electronic, mechanical, or other technological collection techniques or other forms of information technology.

All responses to this notice will be summarized and included in the request for Office of Management and Budget (OMB) approval. All comments will also become a matter of public record.

Comments may be sent to: Alberta Frost, Director, Office of Analysis, Nutrition and Evaluation, Food and Nutrition Service, U.S. Department of Agriculture, 3101 Park Center Drive, Alexandria, VA 22302.

All responses to this notice will be summarized and included in the request for OMB approval. All comments will be a matter of public record.

FOR FURTHER INFORMATION CONTACT: Requests for additional information or copies of the proposed information collection should be directed to Alberta C. Frost (703) 305-2117.

SUPPLEMENTARY INFORMATION: Title: The Pennsylvania Rural Area Eligibility Pilot Evaluation.

OMB Number: Not yet assigned.

Expiration Date: N/A.

Type of Request: New collection of information.

Abstract: The Pennsylvania Rural Area Eligibility Pilot Evaluation is an evaluation project of the Summer Food Service Program (SFSP). Section 116 of the Child Nutrition and WIC Reauthorization Act of 2004 (Pub. L. 108-265) amended section 13(a) of the Richard B. Russell National School Lunch Act, 42 U.S.C. 1761(a)(9), to authorize the Secretary of Agriculture through FNS to establish a demonstration pilot of SFSP in the rural areas of Pennsylvania for calendar years 2005 and 2006, using a lower threshold of 40% of children being eligible for free or reduced price school meals instead of the 50% typically required for determining eligibility in areas in which poor economic conditions exist. The legislation allows Pennsylvania to use school or census data to determine eligibility of feeding sites. The evaluation will examine the impact of the change in threshold in terms of changes (increases) in the numbers and characteristics of participants, feeding sites, and services provided to eligible children. The evaluation component will collect information from sponsors, site supervisors, site monitors, and sites operating SFSP sites in rural Pennsylvania. Three surveys will be conducted: (1) Sponsor survey, (2) site supervisor survey, and (3) site monitor survey. A report is due to Congress in January 2008.

Affected Public: Sponsors—Active rural site sponsors of SFSP in rural Pennsylvania, Site Supervisors—Supervisors of rural sites of SFSP that were open or enrolled and were active in 2006, and Site Monitors—Monitors are temporary state employees who serve to monitor the feeding activities of the site. Active monitors of SFSP in rural Pennsylvania in 2006 will be interviewed.

Estimate of Burden:

Sponsor Survey: Public burden for respondents of the sponsor survey is estimated at 20 minutes for 55 respondents for one response each.

Site Supervisor Survey: Public burden for respondents of the site supervisor survey is estimated at 15 minutes for 232 respondents for one response each.

Site monitor survey: Public burden for respondents of the site monitor survey is estimated at 4 minutes for 19 respondents for one response each.

Description | Number of respondents | Number of responses per respondent | Hours per response | Total hours
Sponsor Survey | 55 | 1 | 0.333 | 18.33
Site Supervisor Survey | 232 | 1 | 0.250 | 58.00
Sponsor Survey | 19 | 1 | 0.066 | 1.27
Total Annual Burden |  |  |  | 78

Estimated Number of Respondents: 306.

Estimated Number of Responses per Respondent: 1.

Estimated Total Annual Responses: 306.

Estimated Hours per Response: 0.25.

Estimated Total Annual Burden: 78 hours.

Dated: May 4, 2006.
Roberto Salazar,
Administrator, Food and Nutrition Service.

[FR Doc. E6-7260 Filed 5-11-06; 8:45 am]

BILLING CODE 3410-30-P